DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Azza El-Remessy, Ph.D., University of Georgia, College of Pharmacy: Based on the report of an investigation conducted by the University of Georgia, College of Pharmacy (UGCP) and additional analysis conducted by ORI in its oversight review, ORI found that Dr. Azza El-Remessy, former Associate Professor, Department of Clinical and Administrative Pharmacy, UGCP, engaged in research misconduct in research supported by National Eye Institute (NEI), National Institutes of Health (NIH), grants R01 EY011766, R01 EY022408, and R01 EY04618, National Heart, Lung, and Blood Institute (NHLBI), NIH, grant R01 HL056259, and National Cancer Institute (NCI), NIH, grant K01 CA89689.

ORI found that false Western blot data were included in:

• J Cell Sci. 118(Pt. 1):243-52, 2005 (hereafter referred to as “J Cell Sci. 2005”). Retraction in: J Cell Sci. 129(16):3203, 2016.

• FASEB J. 21(10):2528-39, 2007 (hereafter referred to as “FASEB J. 2007”). Retraction in: FASEB J. 31(1):421, 2017.

• PLoS One 8(8):e71868, 2013 (hereafter referred to as “PLoS One 2013”).

As a result of its investigation, UGCP recommended that PLoS One 2013 be corrected. As a result of the investigation, J Cell Sci. 2005 and FASEB J. 2007 have been retracted.

ORI found that Respondent intentionally, knowingly, or recklessly used the same Western blot bands to represent different experimental results. Specifically, Respondent reused and relabeled bands in:

1. Figure 3B, J Cell Sci. 2005, to represent p38 bands from retinal cultured endothelial cells in high glucose in the absence of exogenous VEGF and also cells in peroxynitrite in the presence of exogenous VEGF.

2. Figure 4A, J Cell Sci. 2005, to represent nitrotyrosine immunoprecipitations from retinal endothelial cells cultured in normal glucose in the presence or absence of FeTTP; the Respondent also duplicated controls for p85 immunoprecipitation by using three bands representing 2 normal glucose and 1 high glucose treatments, flipping them horizontally (mirror images) to also represent 2 high glucose and 1 peroxynitrite treatments.

3. Figure 4B, J Cell Sci. 2005, to represent p85 immunoprecipitations from retinal endothelial cells stimulated with VEGF and also cells treated with either high glucose or peroxynitrite.

4. Figure 4A, PLoS One 2013, to represent immunoprecipitations for phosphorylated GSK-3 (p-GSK-3) in cells with normal glucose or high glucose for day 1 and to also represent cells treated with VEGF or VEGF+VEGFI (inhibitor); the Respondent also duplicated GSK-3 controls by using the same bands to represent high glucose treatment for day 1 and day 3 treatments, flipping them horizontally, to also represent for VEGF and VEGFRI treatments.

5. Figure 3, FASEB J. 2007, to represent phosphorylated VEGF2 (P-VEGF2) protein expression in microvascular endothelial cells in: Lanes 1 and 8, lanes 2 and 5, and lanes 6 and 7, where each lane represents different experimental conditions.

Dr. El-Remessy entered into a Voluntary Settlement Agreement (Agreement) to resolve this matter without further expenditure of time or other resources. Dr. El-Remessy accepts ORI's findings of research misconduct as set forth above but neither admits nor denies ORI's findings of research misconduct. The settlement is not an admission of liability on the part of the Respondent. Dr. El-Remessy voluntarily agreed, beginning on September 12, 2017:

(1) To have her research supervised for a period of three (3) years beginning with the effective date of the Agreement; Respondent agreed that prior to the submission of an application for U.S. Public Health Service (PHS) support for a research project on which the Respondent's participation is proposed and prior to Respondent's participation in any capacity on PHS-supported research, Respondent shall ensure that a plan for supervision of Respondent's duties is submitted to ORI for approval; the supervision plan must be designed to ensure the scientific integrity of Respondent's research contribution; Respondent agreed that she shall not participate in any PHS-supported research until such a supervision plan is submitted to and approved by ORI; Respondent agreed to maintain responsibility for compliance with the agreed upon supervision plan;

(2) that for three (3) years beginning with the effective date of the Agreement, any institution employing her shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) to exclude herself voluntarily from serving in any advisory capacity to PHS including, but not limited to, service on any PHS advisory committee, board, and/or peer review committee, or as a consultant for a period of three (3) years, beginning with the effective date of the Agreement; and

(4) that as a condition of the Agreement, Respondent will request that PLoS One 8(8):e71868, 2013 be corrected or retracted.

FOR FURTHER INFORMATION CONTACT: Director, Office of Research Integrity, 1101 Wootton Parkway, Suite 750, Rockville, MD 20852, (240) 453-8200.

Kathryn M. Partin,
Director, Office of Research Integrity.

[FR Doc. 2017-21367 Filed 10-3-17; 8:45 am]

BILLING CODE 4150-31-P